DEPARTMENT OF COMMERCE

International Trade Administration

[A-570-831]

Fresh Garlic From the People's Republic of China: Notice of Extension of Time Limit for the Preliminary Results of New Shipper Reviews

AGENCY: Import Administration, International Trade Administration, Department of Commerce.

SUMMARY: The Department of Commerce is extending the time limit for the preliminary results of new shipper reviews of the antidumping duty order on fresh garlic from the People's Republic of China until October 25, 2005, pursuant to Section 751(a)(2)(B)(iv) of the Tariff Act of 1930, as amended (the Act). This extension applies to the new shipper reviews of Shanghai LJ International Trading Co., Ltd. and Zhangqiu Qingyuan Vegetable Co., Ltd., covering the period of November 1, 2003, through October 31, 2004.

EFFECTIVE DATE: July 5, 2005.

FOR FURTHER INFORMATION CONTACT: Coleen Schoch or Brian Ledgerwood, AD/CVD Operations, Office 8, Import Administration, International Trade Administration, U.S. Department of Commerce, 14th Street and Constitution Avenue NW, Washington, DC 20230; telephone: (202) 482-45541 and (202) 482-3836, respectively.

SUPPLEMENTARY INFORMATION:

Background

On January 5, 2005, the Department of Commerce (the Department) announced the initiation of the new shipper reviews of Shanghai LJ International Trading Co., Ltd. (Shanghai LJ), Zhangqiu Qingyuan Vegetable Co., Ltd. (Qingyuan) and Huaiyang Huamei Foodstuff Co., Ltd. (Huamei). See Notice of Initiation of New Shipper Antidumping Duty Reviews: Fresh Garlic from the People's Republic of China, 70 FR 779. The new shipper review of Huamei was rescinded by the Department on May 25, 2005. See Notice of Initiation of New Shipper Antidumping Duty Reviews: Fresh Garlic from the People's Republic of China, 70 FR 30081.

Section 751(a)(2)(B)(iv) of the Act provides that the Department will issue the preliminary results of a new shipper review of an antidumping duty order within 180 days after the date on which the new shipper review was initiated. The Act also provides that the Department may extend that 180-day period to 300 days if it concludes that the new shipper review is extraordinarily complicated. See also 19 CFR 351.214(i).

The Department has determined that these reviews are extraordinarily complicated and it is not practicable to complete the preliminary results by the current deadline of June 27, 2005. There are a number of complex factual, methodological, and legal issues related to the calculation of the antidumping margins for these new shipper reviews that are currently before the Department. Therefore, in accordance with 19 CFR 351.214(i)(2), the Department is extending the time limit for the preliminary results until no later than October 25, 2005. We are issuing and publishing this notice in accordance with sections 751(a)(2)(B) and 777(i) of the Act and 19 CFR 351.214(I).

Dated: June 27, 2005.
Barbara E. Tillman,
Acting Deputy Assistant Secretary for Import Administration.

[FR Doc. E5-3488 Filed 7-1-05; 8:45 am]

BILLING CODE 3510-DS-S